DEPARTMENT OF STATE

[Public Notice 5775]

Asia-Pacific Partnership on Clean Development and Climate; Notice of Grant Opportunity

The U.S. Department of State invites organizations interested in contributing to the Asia-Pacific Partnership's goals, through innovative public-private partnerships, to submit concept papers for consideration under the Annual Program Statement (APS) using www.grants.gov.

Background

Australia, China, India, Japan, Korea, and the United States have established the Asia-Pacific Partnership on Clean Development and Climate to accelerate the development and deployment of clean energy technologies in their countries. The Partner countries have decided to work together and with their private sectors on energy security, national air pollution reduction, and climate change in ways that promote sustainable economic growth and poverty reduction. The Partnership involves countries that account for about half of the world's population and more than half of the world's economy and energy use.

The Partnership focuses on voluntary practical measures taken by these six countries in the Asia-Pacific region to create new investment opportunities, build local capacity, and remove barriers to the introduction of clean, more efficient technologies. It brings together key experts from the public and private sectors.

As a part of the U.S. government's participation in the Asia-Pacific Partnership on Clean Development and Climate (APP), the Department of State (DOS) is soliciting Concept Papers from organizations interested in contributing to the Partnership's goals through innovative public-private partnerships. These goals include reducing greenhouse gas emissions; advancing sustainable economic growth; reducing poverty; creating new investment opportunities; building local capacity; and improving economic and energy security.

Prospective applicants may include a wide range of Partner country organizations, from non-governmental organizations (NGOs) to commercial firms. An organization may submit no more than four (4) Concept Papers total as lead grant recipient for the entire Concept Paper process.

The DOS has requested $26 million in Economic Support Funds (ESF) to fund Partnership activities in Fiscal Year 2007. Through this Announcement, the Department of State is soliciting proposals for activities to be undertaken in India. The Department of State is not soliciting proposals for activities to be undertaken in Australia, China, Japan, or Korea. To qualify for DOS funding under this program announcement, a proposal must demonstrate that the applicant and its partners are willing/able to collectively contribute significant resources to the proposed program that are at least equal to the level of resources sought from DOS. Grants will be awarded in the range of $200,000-$2,000,000 (USD).

For more information about this grants opportunity, please go to: www.grants.gov and access funding opportunity number: S-OES-07-APS-0001 or e-mail APP_US@state.gov.

For more information about the Partnership, please visit: http://www.asiapacificpartnership.org or http://www.state.gov/app.

If you would like to be notified in advance of future grants opportunities under the Asia-Pacific Partnership, please e-mail your name, affiliation, phone number, and e-mail address to: APP_US@state.gov.

Additional Information

Document Type: Grants Notice.

Funding Opportunity Number: S-OES-07-APS-0001.

Opportunity Category: Discretionary.

Posted Date: April 06, 2007.

Original Closing Date for Applications: April 27, 2007.

Annual Program Statement Key Dates:April 27, 2007—Prospective applicants must submit Concept Papers using www.grants.gov by 5 p.m. Easter Standard Time.

May 29, 2007—DOS will send a Request for Proposal to applicants whose Concept Papers have been selected.

June 29, 2007—Prospective applicants must submit Proposals using www.grants.gov by 5 p.m. Eastern Standard Time.

Current Closing Date for Applications: April 27, 2007.

Annual Program Statement Key Dates: April 27, 2007—Prospective applicants must submit Concept Papers using www.grants.gov by 5 p.m. Eastern Standard Time.

May 29, 2007—DOS will send a Request for Proposal to applicants whose Concept Papers have been selected.

June 29, 2007—Prospective applicants must submit Proposals using www.grants.gov by 5 p.m. Eastern Standard Time.

Funding Instrument Type: Grant.

Category of Funding Activity: Environment, Energy and Climate Change.

Expected Number of Awards: 100.

Estimated Total Program Funding: $26,000,000.

Award Ceiling: $2,000,000.

Award Floor: $200,000.

Cost Sharing or Matching Requirement: Yes.

Dated: April 10, 2007.
Trigg Talley,
Office Director, Acting, Office of Global Change, Bureau of Oceans and International Environmental and Scientific Affairs, Department of State.

[FR Doc. E7-7205 Filed 4-13-07; 8:45 am]

BILLING CODE 4710-09-P